DEPARTMENT OF DEFENSE

Office of the Secretary

[Docket ID: DoD-2023-OS-0067]

Proposed Collection; Comment Request

AGENCY: Office of the Under Secretary of Defense for Personnel and Readiness (OUSD(P&R)), Department of Defense (DoD).

ACTION: 60-Day information collection notice.

SUMMARY: In compliance with the Paperwork Reduction Act of 1995, the Defense Suicide Prevention Office and Naval Postgraduate School announce a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 16, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number, and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to: Naval Postgraduate School, 1411 Cunningham Rd., Suite 225, Monterey CA 93943, Dr. Nita Shattuck, 831-656-2281.

SUPPLEMENTARY INFORMATION:

Title; Associated Form; and OMB Number: Longitudinal Study of Sleep Patterns and their Impact on Performance, Behavior, and Health; OMB Control Number: 0704-SLEP.

Needs and Uses: The decisions and actions of active-duty service members (ADSMs) determine the success of military missions and the health and safety of their team members. ADSMs must be prepared to respond to complex, unexpected, uncertain, and, at times, dangerous events at a moment's notice. Sleep deprivation and fatigue negatively impact the state, health, decision-making, and performance of ADSMs, thereby jeopardizing their ability to meet operational demands and ensure safe operations.

The overarching aim of the project is to assess the unique challenges ADSMs experience in military occupational environments as they perform their regular duties. The data collected will provide more reliable insight into the chronic effect of occupational stressors on the sleep/wake patterns and health status of ADSMs. Findings will provide useful data to assist in assessing the status and impact of fatigue in military operations as the DoD seeks to positively influence the readiness, health, and performance of personnel.

Affected Public: Individuals or households (Marines and Sailors).

Enrollment Questionnaire

Annual Burden Hours: 83.3.

Number of Respondents: 200.

Responses per Respondent: 1.

Annual Responses: 2,000.

Average Burden per Response: 25 minutes.

Intermediate Assessment Questionnaire

Annual Burden Hours: 53.3.

Number of Respondents: 200.

Responses per Respondent: 8 (16 over two-year study).

Annual Responses: 1,600.

Average Burden per Response: 2 minutes.

Study Questionnaire

Annual Burden Hours: 266.67.

Number of Respondents: 200.

Responses per Respondent: 4 (8 over two-year study).

Annual Responses: 800.

Average Burden per Response: 20 minutes.

Total Burden

Annual Burden Hours: 403.3.

Number of Respondents: 200.

Annual Responses: 4,400.

Frequency: Approximately Monthly. Data will first be collected on the demographics of respondents to include age, diet, sleep health, etc. Standardized questionnaires will then be used to determine the sleep health, fatigue, and stress levels of respondents throughout the 24-month longitudinal study.

Dated: August 10, 2023.
Aaron T. Siegel,
Alternate OSD Federal Register Liaison Officer, Department of Defense.

[FR Doc. 2023-17539 Filed 8-15-23; 8:45 am]

BILLING CODE 5001-06-P